DEPARTMENT OF COMMERCE

National Oceanic and Atmospheric Administration

DEPARTMENT OF THE INTERIOR

U.S. Fish and Wildlife Service

[I.D. 091406B]

Marine Mammals; National Marine Fisheries Service File No. 31-1741; U.S. Fish and Wildlife Service File No. MA081663

AGENCIES: National Marine Fisheries Service (NMFS), National Oceanic and Atmospheric Administration (NOAA), Commerce; U.S. Fish and Wildlife Service, Interior.

ACTION: Notice; issuance of permit amendment.

SUMMARY: Notice is hereby given that the Wildlife Conservation Society (WCS), 2300 Southern Blvd., Bronx, New York 10460 [Dr. Howard C. Rosenbaum, Principal Investigator], has been issued an amendment to scientific research Permit No. 31-1741/MA081663.

ADDRESSES: The permit and related documents are available for review upon written request or by appointment in the following office(s):

U.S. Fish and Wildlife Service, Division of Management Authority, 4401 North Fairfax Drive, Room 700, Arlington, VA 22203; phone (800) 358-2104; fax (703) 358-2281; and

Permits, Conservation and Education Division, Office of Protected Resources, NMFS, 1315 East-West Highway, Room 13705, Silver Spring, MD 20910; phone (301) 713-2289; fax (301) 427-2521.

FOR FURTHER INFORMATION CONTACT: Monica Farris, Division of Management Authority, US Fish and Wildlife Service, (703) 358-2104.

SUPPLEMENTARY INFORMATION: On June 13, 2006, notice was published in the Federal Register (71 FR 34064) that a request for an amendment to a joint NMFS/USFWS scientific research permit had been submitted by the above-named organization. This amendment revises the current permit to include the acquisition, importation and exportation/re-exportion of specimens and materials from polar bears (Ursus maritimus), including shed hair, feces, and DNA and tissue samples from the wild, tissue banks, and collaborators. The permit has been granted under the authority of the Marine Mammal Protection Act of 1972, as amended (MMPA; 16 U.S.C. 1361 et seq.) and the regulations governing the taking and importing of marine mammals (50 CFR part 18).

In compliance with the National Environmental Policy Act of 1969 (42 U.S.C. 4321 et seq.), a final determination has been made that the activity proposed is categorically excluded from the requirement to prepare an environmental assessment or environmental impact statement.

Dated: September 21, 2006.
Charlie R. Chandler,
Chief, Branch of Permits, Division of Management Authority, U.S. Fish and Wildlife Service.

Dated: September 21, 2006.
P. Michael Payne,
Chief, Permits, Conservation and Education Division, Office of Protected Resources, National Marine Fisheries Service.

[FR Doc. E6-15892 Filed 9-26-06; 8:45 am]

BILLING CODE 3510-22-S